DEPARTMENT OF ENERGY

Federal Energy Regulatory Commission

[Project No. 13056-001]

BPUS Generation Development, LLC; Notice of Surrender of Preliminary Permit

December 10, 2008.

Take notice that BPUS Generation Development, LLC, permittee for the proposed Buckhorn Lake Dam Hydroelectric Project, has requested that its preliminary permit be terminated. The permit was issued on June 4, 2008, and would have expired on May 31, 2011.¹ The project would have been located on the Middle Fork of the Kentucky River in Perry County, Kentucky.

¹ 123 FERC ¶ 62,192.

The permittee filed the request on December 2, 2008, and the preliminary permit for Project No. 13056 shall remain in effect through the thirtieth day after issuance of this notice unless that day is a Saturday, Sunday, part-day holiday that affects the Commission, or legal holiday as described in section 18 CFR 385.2007, in which case the effective date is the first business day following that day. New applications involving this project site, to the extent provided for under 18 CFR part 4, may be filed on the next business day.

Kimberly D. Bose,
Secretary.

[FR Doc. E8-29870 Filed 12-16-08; 8:45 am]

BILLING CODE 6717-01-P